DEPARTMENT OF COMMERCE

International Trade Administration

[A-570-820]

Final Results of Five-Year (“Sunset”) Review and Revocation of Antidumping Duty Order: Certain Compact Ductile Iron Waterworks Fittings and Glands From the People's Republic of China

AGENCY: Import Administration, International Trade Administration, Department of Commerce.

ACTION: Notice.

SUMMARY: On November 2, 1999, the Department of Commerce (“the Department”) initiated a sunset review of the antidumping duty order on certain compact ductile iron waterworks fittings and glands (“CDIW”) from the People's Republic of China (“PRC”). Because no domestic party responded to the sunset review notice of initiation by the applicable deadline, the Department is revoking this order.

EFFECTIVE DATE: January 1, 2000.

FOR FURTHER INFORMATION CONTACT: Martha V. Douthit or Melissa G. Skinner, Office of Policy, Import Administration, International Trade Administration, U.S. Department of Commerce, 14th Street and Constitution Avenue, NW, Washington, DC 20230; telephone: (202) 482-5050 or (202) 482-1560, respectively.

SUPPLEMENTARY INFORMATION:

Background

On September 7, 1993, the Department issued the antidumping duty order on CDIW from the PRC (58 FR 47117). Pursuant to section 751(c) of the Tariff Act of 1930, as amended (“the Act”), the Department initiated a sunset review of this order by publishing notice of the initiation in the Federal Register, November 2, 1999 (64 FR 59160). In addition, as a courtesy to interested parties, the Department sent letters, via certified and registered mail, to each party listed on the Department's most current service list for this proceeding to inform them of the automatic initiation of the sunset review on this order.

No domestic interested party in the sunset review on this order responded to the notice of initiation by the November 17, 1999 deadline (see § 351.218(d)(1)(i) of Procedures for Conducting Five-year (“Sunset”) Reviews of Antidumping and Countervailing Duty Orders, 63 FR 13520 (March 20, 1998) (“Sunset Regulations”)).

Determination To Revoke

Pursuant to section 751(c)(3)(A) of the Act and § 351.218(d)(1)(iii)(B)(3) of the Sunset Regulations, if no domestic interested party responds to the notice of initiation, the Department shall issue a final determination, within 90 days after the initiation of the review, revoking the finding or order. Because no domestic interested party responded to the notice of initiation by the applicable deadline, November 17, 1999, we are revoking this antidumping duty order.

Effective Date of Revocation and Termination

Pursuant to section 751(c)(6)(A)(iv) of the Act, the Department will instruct the United States Customs Service to terminate the suspension of liquidation of the merchandise subject to this order entered, or withdrawn from warehouse, on or after January 1, 2000. Entries of subject merchandise prior to the effective date of revocation will continue to be subject to suspension of liquidation and antidumping duty deposit requirements. The Department will complete any pending administrative reviews of this order and will conduct administrative reviews of subject merchandise entered prior to the effective date of revocation in response to appropriately filed requests for review.

Dated: January 14, 2000.
Robert S. LaRussa,
Assistant Secretary for Import Administration.

[FR Doc. 00-1658 Filed 1-21-00; 8:45 am]

BILLING CODE 3510-DS-P